DEPARTMENT OF LABOR

Employment and Training Administration

Investigations Regarding Certifications of Eligibility To Apply for Worker Adjustment Assistance

Petitions have been filed with the Secretary of Labor under section 221(a) of the Trade Act of 1974 (''the Act'') and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 15, 2003.

Interested persons are invited to submit written comments regarding the subject matter of the investigations to the Director, Division of Trade Adjustment Assistance, at the address shown below, not later than May 5, 2003.

The petitions filed in this case are available for inspection at the Office of the Director, Division of Trade Adjustment Assistance, Employment and Training Administration, U.S. Department of Labor, Room C-5311, 200 Constitution Avenue, NW., Washington, DC 20210.

Signed in Washington, DC this 31st day of March, 2003.
Edward A. Tomchick,
Trade Adjustment Assistance.

Appendix
[Petitions instituted between 03/26/2003 and 03/31/2003]
TA-W | Subject firm (petitioners) | Location | Date of institution | Date of petition
51,314 | Tyco Healthcare (Comp) | Irvine, CA | 03/26/2003 | 03/14/2003
51,315 | Cela Fabrics, Inc. (Comp) | New York, NY | 03/26/2003 | 03/19/2003
51,316 | Medsep Corporation (Wkrs) | Covina, CA | 03/26/2003 | 03/19/2003
51,317 | Tetley USA, Inc. (Comp) | Williamsport, PA | 03/26/2003 | 03/25/2003
51,318 | Ametek Specialty Motors (Comp) | Chambersburg, PA | 03/26/2003 | 03/25/2003
51,319 | Gem Island Enterprises (Comp) | Morganton, NC | 03/26/2003 | 03/18/2003
51,320 | Heath Electronic Manufacturing Corp. (Comp) | Glenns Ferry, ID | 03/26/2003 | 03/18/2003
51,321 | Rome Cable Corporation (NY) | Rome, NY | 03/26/2003 | 03/18/2003
51,322 | Alburg Door and Window, Ltd. (Wkrs) | Alburg, VT | 03/26/2003 | 03/24/2003
51,323 | Michael Anthony Jewelers (Wkrs) | Mt. Vernon, NY | 03/26/2003 | 02/28/2003
51,324 | Ponderosa Moulding (Wkrs) | Redmond, OR | 03/26/2003 | 03/19/2003
51,325 | Powerwave (Wkrs) | Santa Ana, CA | 03/26/2003 | 03/13/2003
51,326 | Ross Mould, Inc. (AFGW) | Washington, PA | 03/26/2003 | 03/20/2003
51,327 | Akzo Nobel (NJ) | Somerset, NJ | 03/26/2003 | 03/25/2003
51,328 | Fluor Daniel Services (Wkrs) | Wilmington, NC | 03/26/2003 | 01/06/2003
51,329 | Dana Corporation (UAW) | Richmond, IN | 03/26/2003 | 03/26/2003
51,330 | Zilog, Inc. (Comp) | Nampa, ID | 03/27/2003 | 02/26/2003
51,331 | Allen Everitt Knitting Company (Wkrs) | Milwaukee, WI | 03/27/2003 | 03/18/2003
51,332 | National Refractories and Minerals (Comp) | Mexico, MO | 03/27/2003 | 12/20/2002
51,333 | Standard Precision (Wkrs) | Meadville, PA | 03/27/2003 | 03/25/2003
51,334 | Chicago Firebrick, Inc. (Comp) | Chicago, IL | 03/27/2003 | 12/20/2002
51,335 | General Electric Industrial System (Wkrs) | Salem, VA | 03/27/2003 | 03/26/2003
51,336 | Manufacturers Pattern and Foundry Corp. (MA) | Springfield, MA | 03/27/2003 | 03/26/2003
51,337 | National Refractories and Mineral (Comp) | Columbiana, OH | 03/27/2003 | 12/20/2002
51,338 | National Refractories and Mineral (Comp) | Livermore, CA | 03/27/2003 | 12/20/2002
51,339 | Wellsville Firebrick Company (Comp) | Wellsville, MO | 03/27/2003 | 12/20/2002
51,340 | Sprint Long Distance (Wkrs) | Rosemont, IL | 03/27/2003 | 03/24/2003
51,341 | Washington Group International, Inc. (Wkrs) | Niagara Falls, NY | 03/27/2003 | 03/26/2003
51,342 | Hytek Finishes (Wkrs) | Everett, WA | 03/27/2003 | 03/23/2003
51,343 | Q Media Services (MA) | Westborough, MA | 03/27/2003 | 03/26/2003
51,344 | F/V Randy (Comp) | Egegik, AK | 03/27/2003 | 03/25/2003
51,345 | State of Alaska Commercial Fisheries (Comp) | Manokotak, AK | 03/27/2003 | 03/24/2003
51,346 | Set-Netter (Comp) | Dillingham, AK | 03/27/2003 | 03/24/2003
51,347 | Fishing Vessel (F/V) Libby No. 8 (Comp) | Ketchikan, AK | 03/27/2003 | 03/24/2003
51,348 | Fields and Sons, Inc. (Comp) | Kodiak, AK | 03/27/2003 | 03/25/2003
51,349 | Alpharma, Inc (Comp) | Palmyra, MO | 03/28/2003 | 03/27/2003
51,350 | Torque-Traction Tech, Inc./Dana (Wkrs) | Whitsett, NC | 03/28/2003 | 03/21/2003
51,351 | Trade Wind Apparel, Inc. (Wkrs) | Commerce, GA | 03/28/2003 | 03/26/2003
51,352 | Friedman Bag Company, Inc. (Wkrs) | Portland, OR | 03/28/2003 | 03/27/2003
51,353 | Interlake Material Handling, Inc. (Comp) | Lodi, CA | 03/28/2003 | 03/20/2003
51,354 | Connor Manufacturing Services (Comp) | Corona, CA | 03/28/2003 | 03/25/2003
51,355 | Rossville Chromatex (Wkrs) | Chattanooga, TN | 03/28/2003 | 03/27/2003
51,356 | Howden Buffalo, Inc. (UAW) | Springfield, IL | 03/28/2003 | 03/28/2003
51,357 | Forest City Tool (Comp) | Hickory, NC | 03/28/2003 | 03/20/2003
51,358 | Dollar Financial Group, Inc. (Comp) | Berwyn, PA | 03/28/2003 | 03/25/2003
51,359 | F/V Kiavak (Comp) | Kodiak, AK | 03/28/2003 | 03/18/2003
51,360 | F/V Lonny A. (Comp) | Ekwok, AK | 03/28/2003 | 03/19/2003
51,361 | Sisiutl Fisheries (Comp) | Kodiak, AK | 03/28/2003 | 03/21/2003
51,362 | Client Logic (Comp) | Buffalo, NY | 03/31/2003 | 03/28/2003
51,363 | Willamette Industries\Weyerhaeuser (Wkrs) | Lebanon, Or | 03/31/2003 | 03/27/2003
51,364 | Raytheon Aircraft (IAM) | Wichita, KS | 03/31/2003 | 03/28/2003
51,365 | Dirigo Stitching, Inc. (Comp) | Skowhegan, ME | 03/31/2003 | 06/26/2003
51,366 | Georgia Pacific (PACE) | Old Town, ME | 03/31/2003 | 03/27/2003
51,367 | American Identity (IA) | Marcus, IA | 03/31/2003 | 03/28/2003
51,368 | Mellon (Wkrs) | Pittsburgh, PA | 03/31/2003 | 01/21/2003
51,369 | Bombardier Learjet (IAM) | Wichita, KS | 03/31/2003 | 03/28/2003
51,370 | Todd Sargent (MA) | Marshfield, MA | 03/31/2003 | 03/28/2003
51,371 | F/V Christian “S” (Comp) | Everett, AK | 03/31/2003 | 03/29/2003
51,372 | Enfield Industries (Wkrs) | Conway, NH | 03/31/2003 | 03/29/2003
51,373 | Buckbee-Mears (Wkrs) | Cortland, NY | 03/31/2003 | 03/31/2003
51,374 | Independent Tool (Comp) | Meadville, PA | 03/31/2003 | 03/31/2003

[FR Doc. 03-10127 Filed 4-23-03; 8:45 am]

BILLING CODE 4510-30-M